DEPARTMENT OF HEALTH AND HUMAN SERVICES

Health Resources and Services Administration

Agency Information Collection Activities Under Emergency Review for the Office of Management and Budget (OMB)

The Health Resources and Services Administration (HRSA) has submitted the following request (see below) for emergency OMB review under the Paperwork Reduction Act (44 U.S.C. Chapter 35). OMB approval has been requested upon publication of this notice for 120 days and the approval foregoes the routine comment period. During the emergency approval period, HRSA will publish a Federal Register notice announcing the initiation of a broad 60-day public comment period and begin the process for a routine information collection request. To request more information on the proposed project or to obtain a copy of the data collection plans and draft instruments, e-mail paperwork@hrsa.gov or call the HRSA Reports Clearance Officer on (301) 443-1129.

Proposed Project: HRSA/Bureau of Primary Health Care Capital Improvement Program Application National Environmental Policy Act (NEPA) Requirements (NEW)

The American Recovery and Reinvestment Act (ARRA) provides $1.5 billion in grants to support construction, renovation and equipment, and the acquisition of health information technology systems, for health centers, including health center controlled networks receiving operating grants under section 330 of the Public Health Service (PHS) Act, as amended (42 U.S.C. 254b). HRSA is requesting emergency processing procedures for the Environmental Information and Documentation portion of the application because this information is needed before the expiration of the normal time limits under regulations at 5 CFR part 1320 to ensure the timely availability of data to make award determinations for receipt of funds under ARRA. Of the $1.5 billion, HRSA will award approximately $850 million, through limited competition grants, for one-time Capital Improvement Program (CIP) grant funding in fiscal year (FY) 2009 to support existing section 330 funded health centers. Funding under this opportunity will address pressing capital improvement needs in health centers, such as construction, repair, renovation, and equipment purchases, including health information technology systems. Applicants must provide information and assurance of compliance with the National Environmental Policy Act of 1969 (NEPA) on the Environmental Information and Documentation (EID) checklist.

The estimated annual burden is as follows:

Form | Number of respondents | Responses per respondent | Total responses | Hours per response | Total burden hours
NEPA EID Checklist | 1,134 | 1 | 1,134 | 1 | 1,134
Total | 1,134 |  | 1,134 |  | 1,134

Dated: April 29, 2009.
Alexandra Huttinger,
Director, Division of Policy Review and Coordination.

[FR Doc. E9-10285 Filed 4-30-09; 11:15 am]

BILLING CODE 4165-15-P